DEPARTMENT OF DEFENSE

Department of the Navy

Notice of Extension of Public Comment Period for the Draft Supplemental Environmental Impact Statement for the Surveillance Towed Array Sensor System Low Frequency Active (SURTASS LFA) Sonar

AGENCY: Department of Navy, DoD.

ACTION: Notice.

SUMMARY: Under the National Environmental Policy Act, the U.S. Environmental Protection Agency published a notice of availability in the Federal Register, 70 FR 68443 on November 10, 2005, for the Draft Supplemental Environmental Impact Statement (Draft SEIS) for the Department of the Navy's deployment of Surveillance Towed Array Sensor System Low Frequency Active (SURTASS LFA) sonar systems (EIS No. 20050460). This notice announces the extension of the public comment period from December 27, 2005 to February 10, 2006.

DATES: Comments must be postmarked or received via e-mail not later than February 10, 2006, to ensure they become part of the official record.

FOR FURTHER INFORMATION CONTACT: Ms. Kimberly Skrupky, Marine Acoustics, Inc., 703-465-8404.

SUPPLEMENTARY INFORMATION: Comments on the SURTASS LFA Draft SEIS should be addressed to Mr. J.S. Johnson, Program Manager, 4100 Fairfax Drive, Suite 730, Arlington, VA 22203. Comments can also be sent via e-mail to eisteam@mindspring.com. All comments will be addressed in the Final SEIS.

An electronic copy of the Draft SEIS, as well as further information on SURTASS LFA, is available on the Internet at http://www.surtass-lfa-eis.com.

Dated: December 21, 2005.
S.K. Melancon,
Paralegal Specialist, Office of the Judge Advocate General, Alternate Federal Register Liaison Officer.

[FR Doc. E5-7942 Filed 12-27-05; 8:45 am]

BILLING CODE 3810-FF-P